DEPARTMENT OF TRANSPORTATION

Federal Aviation Administration

14 CFR Part 73

[Docket No. FAA-2023-1957; Airspace Docket No. 23-AAL-28]

RIN 2120-AA66

Amendment of Jet Route J-133 and Establishment of Area Navigation Route Q-801 in the Vicinity of Anchorage, AK

AGENCY: Federal Aviation Administration (FAA), DOT.

ACTION: Final rule; correction.

SUMMARY: This action corrects a final rule correction published in the Federal Register of September 19, 2024, that amends Jet Route J-133 and establishes Area Navigation Route (RNAV) Q-801 in the vicinity of Anchorage, AK. This action corrects a typographical error in the regulatory text for J-133.

DATES: Effective date: 0901 UTC October 31, 2024.

ADDRESSES: FAA Order JO 7400.11J, Airspace Designations and Reporting Points, and subsequent amendments can be viewed online at www.faa.gov/air_traffic/publications/. You may also contact the Rules and Regulations Group, Office of Policy, Federal Aviation Administration, 600 Independence Avenue SW, Washington, DC 20597; telephone: (202) 267-8783.

FOR FURTHER INFORMATION CONTACT: Steven Roff, Rules and Regulations Group, Office of Policy, Federal Aviation Administration, 600 Independence Avenue SW, Washington, DC 20597; telephone (202) 267-8783.

SUPPLEMENTARY INFORMATION:

History

The FAA published a final rule for Docket No. FAA-2023-1957 in the Federal Register (89 FR 70474; August 30, 2024) that amended Jet Route J-133 and established RNAV Q-801 in the vicinity of Anchorage, AK. Subsequent to publication, the FAA published a final rule correction for Docket No. FAA-2023-1957 in the Federal Register (89 FR 76713; September 19, 2024) that corrected a typographical error in the rule section of the final rule preamble, but inadvertently retained a typographical error in the regulatory text for J-133. The final rule and final rule correction listed the J-133 route points in a North to South order in error. The route points should be listed in a South to North order. This action corrects that error.

Correction to Final Rule

Accordingly, pursuant to the authority delegated to me, Amendment of Jet Route J-133 and Establishment of Area Navigation Route Q-801 in the Vicinity of Anchorage, AK, published in the Federal Register of September 19, 2024 (89 FR 76713), FR Doc. 2024-21260, is corrected as follows:

On page 76714, in the middle of column 1, the description for Jet Route J-133 is revised to read as follows:

J-133 [Amended]

From Anchorage, AK; to Galena, AK.

* * * * *

Issued in Washington, DC, on October 22, 2024.
Frank Lias,
Manager, Rules and Regulations Group.

[FR Doc. 2024-24934 Filed 10-25-24; 8:45 am]

BILLING CODE 4910-13-P